SMALL BUSINESS ADMINISTRATION

[Declaration of Disaster #3416]

State of Michigan

Gogebic County and the contiguous counties of Iron and Ontonagon in the State of Michigan; and Iron and Vilas Counties in the State of Wisconsin constitute a disaster area due to damages caused by flooding that occurred on April 15-21, 2002. Applications for loans for physical damage as a result of this disaster may be filed until the close of business on July 9, 2002 and for economic injury until the close of business on February 11, 2003 at the address listed below or other locally announced locations: U.S. Small Business Administration, Disaster Area 2 Office, One Baltimore Place, Suite 300, Atlanta, GA 30308.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 341606 for Michigan and 341706 for Wisconsin. The number assigned to this disaster for economic injury is 9P6100 for Michigan and 9P6200 for Wisconsin.

(Catalog of Federal Domestic Assistance Program Nos. 59002 and 59008)

Dated: May 10, 2002.
Hector V. Barreto,
Administrator.

[FR Doc. 02-12262 Filed 5-15-02; 8:45 am]

BILLING CODE 8025-01-P